DEPARTMENT OF LABOR

Office of the Secretary

Submission for OMB Review: Comment Request

February 14, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review:Extension of currently approved collection.

Title: Qualification/Certification Program and Man Hoist Operators Physical Fitness.

OMB Number: 1219-0127.

Form Number: MSHA 5000-41.

Type of Response: Recordkeeping and Reporting.

Frequency: On occasion; Quarterly; and Annually.

Affected Public: Business or other for-profit.

Number of Respondents: 1,989.

Information collection requirement | Annual responses | Average response time (hours) | Annual burden hours
Certified/Qualified Persons:
Update List of certified/qualified persons* | 7,956 | 0.08 | 660
Develop Training Plans* | 1,989 | 8.00 | 15,912
Copy and mail Training Plans | 1,989 | 0.50 | 995
Subtotal | 11,934 |  | 17,567
MSHA 5000-41:
Paper version* | 448 | 0.28 | 127
Electronic version* | 175 | 0.17 | 29
Subtotal | 623 |  | 156
Total | 10,568 |  | 17,723
* Used to calculate Annual Responses. Coping and mailing Training Plans is considered to be a sub-task under developing Training Plans.

Total Annualized capital/startup costs: $0.

Total Annual Costs (operating/maintaining systems or purchasing services): $7,824.

Description: Under 30 CFR 75.159 and 77.106, the information is used by the mine operator and MSHA enforcement personnel to determine whether certified and qualified persons, who are properly trained, are conducting tests or examinations, and operating hoisting equipment.

Form 5000-41 allows mining operators to report to MSHA the names of persons who have satisfactorily completed required mine foreman and hoisting training. MSHA uses the information to issue certification/qualification cards to those persons who are certified/qualified.

The mine operator also uses the Form to submit an application to certify miners to perform specific required examinations and test, or to qualify miners as hoisting engineers or hoist men, in States without certification programs. The Qualification and Certification Unit then mails the applicant a certificate. This certification satisfies the law where State certification programs are not available.

Ira L. Mills,
Departmental Clearance Officer.

[FR Doc. 05-3492 Filed 2-23-05; 8:45 am]

BILLING CODE 4510-43-P